ENVIRONMENTAL PROTECTION AGENCY

[FRL-7861-5, Docket ID No. OAR-2004-0075]

Notice Announcing Public Meeting of the Clean Air Act Advisory Committee's Task Force on the Performance of the Title V Operating Permits Program and Opportunity To Submit Comments

AGENCY: Environmental Protection Agency (EPA).

ACTION: Notice.

SUMMARY: Today EPA announces a public meeting of the Clean Air Act Advisory Committee's (CAAAC) Task Force on the Performance of the Title V Operating Permits Program.

DATES: The meeting will be held on February 7, 2005.

ADDRESSES: The meeting will be held in San Francisco at the Marine's Memorial Club and Hotel, 609 Sutter Street, San Francisco, California 94102; telephone number: 415-673-6672. The meeting will start at 8 a.m. and continue until 9 p.m. if necessary. Breaks will be held for lunch and dinner, respectively and as necessary during the day. The EPA solicits interested parties with experience in the title V program to provide testimony to the Task Force on what is working well and/or poorly in this program. Those desiring to testify are asked to notify EPA by January 24, 2005 (contact information follows), so that speaking times may be arranged. In addition, written comments may be submitted as described later in this notice. See this Web site for updated information on the Task Force: http://www.epa.gov/oar/caaac/titlev.html.

FOR FURTHER INFORMATION CONTACT: Mr. Ray Vogel, Information Transfer and Implementation Division, Office of Air Quality Planning and Standards, Mail Code C304-04, U.S. Environmental Protection Agency, Research Triangle Park, North Carolina 27711; telephone: 919-541-3153; fax: 919-541-5509; and e-mail address: vogel.ray@epa.gov.

SUPPLEMENTARY INFORMATION:

A. What Is This Task Force and What Is the Purpose of This Public Meeting?

The EPA created the Task Force in June 2004 in response to a recommendation from the Permitting/Toxics Subcommittee of the CAAAC. The Task Force is made up of 18 representatives from State and local permitting agencies, industry, and environmental and public interest groups. The Task Force will gather information from interested persons on the performance of the title V operating permits program and prepare a report documenting how the title V program is performing and what elements are working well and/or poorly. The report may include suggestions on how to improve the program. The Task Force is gathering information by, among other things, holding a series of three public meetings. The San Francisco meeting is expected to be the last public meeting. Other public meetings were held in Washington, DC, on June 25, 2004, and Chicago, Illinois, on September 14 and 15, 2004.

The purpose of these public meetings is to gather information on the performance of the title V program, specifically on aspects of the program that are working well and those that are working poorly. The Task Force welcomes any information from stakeholders that will help it prepare its report on the performance of the title V program.

For further information on the task force, see the May 17, 2004, notice in the Federal Register (69 FR 27922) and the CAAAC Web site: http://www.epa.gov/oar/caaac/titlev.html.

B. How Do I Participate in This Public Meeting?

Those interested in speaking are asked to contact Ray Vogel by January 24, 2005, by email at vogel.ray@epa.gov and give your email and phone number so you may be contacted for a speaking time. Speaking time slots will be 20 minutes each.

The Task Force requests that presenters at the public meeting limit their presentations to no more than 10 minutes and be prepared to answer follow-up questions from members of the Task Force for approximately 10 minutes. If you wish to present more information than can be accommodated in the allotted time, you should put the information in written remarks that supplement your presentation. Speakers are encouraged to bring disks or hard copies of written remarks to submit for the public record at the meeting. The meeting will be recorded, and a transcript will be made and placed in the public docket. An audio recording will also be made and placed on the Web site http://www.epa.gov/oar/caaac/titlev.html.

As noted above, the Task Force is most interested in testimony based on your experience, of what is working well, what is not working well, and any recommendations you have for improvements to the title V program. We strongly encourage speakers to support their testimony with actual examples designed to help the task force understand your concern(s) and how any recommended improvements you offer would address these concerns.

C. How Do I Get Copies of the Draft Report of the Task Force and Other Public Information Related to the Task Force's Work?

Audio and written transcripts of the testimony from previous public meetings are available at the CAAAC Web site: http://www.epa.gov/oar/caaac. The draft report (which is expected to be available in winter 2005) will also be available on the Web site. These same materials and additional supporting materials will also be available electronically through the EPA e-docket at: http://www.epa.gov/edocket/. To submit or view public comments, access the index listing of the contents of the official public docket, and to access those documents in the public docket that are available electronically, select “search,” then key in the appropriate docket ID number. The docket number for this action is OAR-2004-0075.

D. How Do I Submit Comments?

Interested persons may provide written comments for the task force to consider in lieu of or in addition to making a presentation at the public meeting. The docket for the Title V Performance Task Force is open for submittal of comments until March 31, 2005

EDOCKET (Preferred)

The EPA's electronic public docket system is an “anonymous access” system, which means EPA will not know your identity, e-mail address, or other contact information unless you provide it in the body of your comment. Please note: EPA's policy is to not edit your comment; therefore, any identifying or contact information provided in the body of a comment will be included in the official public docket. To submit a comment through EDOCKET, go to http://www.epa.gov/edocket. Once in the system, select “search,” then key in OAR-2004-0075 (the docket ID number for the title V performance task force).

E-Mail

Comments may also be sent by e-mail to: A-and-R-docket@epa.gov, attention Docket ID No. OAR-2004-0075. In contrast to EPA's electronic public docket, EPA's e-mail system is not an “anonymous access” system. The EPA's e-mail system automatically captures your e-mail address and includes it as part of the comment that is placed in the official public docket.

Disk, CD-ROM, or Mail

If you submit a disk or CD-ROM, EPA recommends that you include your name, mailing address, e-mail address, or other contact information in the body of your comment. Also include this contact information on the outside of any disk or CD-ROM you submit, and in any cover letter accompanying the disk or CD-ROM. This ensures that you can be identified as the submitter of the comment and allows EPA to contact you in case EPA cannot read your comment. If you submit mail, please enclose two copies. Send to: U.S. Environmental Protection Agency, Air and Radiation Docket and Information Center, Mail Code 6102T, 1200 Pennsylvania Avenue, NW., Washington, DC 20460, Attention Docket ID No. OAR-2004-0075.

Hand Delivery or Courier

Deliver comments to: Public Reading Room, Room B102, EPA West Building, 1301 Constitution Avenue, NW., Washington, DC 20004, Attention Docket ID No. OAR-2004-0075.

Deliveries are accepted only between 8:30 a.m. and 4:30 p.m. Eastern Standard Time, Monday through Friday, excluding Federal holidays.

By Facsimile

Fax your comments to the EPA Docket Center at (202) 566-1741, Attention Docket ID. No. OAR-2004-0075.

List of Subjects

Environmental protection, Clean Air Act, operating permits.

Dated: January 6, 2005.
Gregory A. Green,
Acting Director, Office of Air Quality Planning and Standards.

[FR Doc. 05-821 Filed 1-13-05; 8:45 am]

BILLING CODE 6560-50-P